ENVIRONMENTAL PROTECTION AGENCY

[EPA-HQ-OPP-2017-0070; FRL-9964-27]

Product Cancellation Order To Voluntarily Cancel Certain Pesticide Registrations and Amend Registrations To Terminate Certain Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows an April 10, 2017 Federal Register Notice of Receipt of Requests from the registrants listed in Table 3 of Unit II to voluntarily cancel and amend to terminate uses of these product registrations. In the April 10, 2017 notice, EPA indicated that it would issue an order implementing the cancellations and amendments to terminate uses, unless the Agency received substantive comments within the 30-day comment period that would merit its further review of these requests, or unless the registrants withdrew their requests. The Agency received two comments on the notice from registrants to withdraw the cancellation request for registrations 1839-189 & 10324-89, therefore these registrations are not listed in this order and will not be cancelled. Accordingly, EPA hereby issues in this notice a cancellation order granting the requested cancellations and amendments to terminate uses. Any distribution, sale, or use of the products subject to this cancellation order is permitted only in accordance with the terms of this order, including any existing stocks provisions.

DATES: The cancellations and amendments are effective August 29, 2017.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0070, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and amendments to terminate uses, as requested by registrants, of products registered under FIFRA section 3 (7 U.S.C. 136a). These registrations are listed in sequence by registration number in Tables 1 and 2 of this unit. The following registration number that was listed in the Federal Register of April 10, 2017 (82 FR 17246) (FRL-9959-66) has already been cancelled in a previous Federal Register notice: OR-080021 on March 22, 2017 (82 FR 14718) (FRL-9958-51).

Table 1—Product Cancellations
Registration No. | Company No. | Product name | Active ingredient
100-1079 | 100 | Bonzi II Ornamental Growth Regulator | Paclobutrazol.
241-362 | 241 | Pursuit Dimethenamid Herbicide | Imazethapyr; & Dimethenamid.
279-9563 | 279 | Rovral Fungicide | Iprodione.
279-9565 | 279 | Rovral R Flowable Fungicide | Iprodione.
279-9566 | 279 | Rovral WG Fungicide | Iprodione.
279-9567 | 279 | Rovral 50 SP Fungicide | Iprodione.
279-9569 | 279 | Rovral Brand 75WG Fungicide | Iprodione.
303-223 | 303 | Beaucoup Germicidal Detergent | 2-Benzyl-4-chlorophenol; 4-tert-Amylphenol; & o-Phenylphenol (NO INERT USE).
464-705 | 464 | Ucarcide 250 Preservative | Glutaraldehyde.
464-706 | 464 | Ucarcide 225 Preservative | Glutaraldehyde.
498-180 | 498 | Champion Sprayon Disinfectant Formula 4 | Isopropyl alcohol; & o-Phenylphenol (NO INERT USE).
706-69 | 706 | Claire Disinfectant Spray | Ethanol; 4-tert-Amylphenol; & o-Phenylphenol (NO INERT USE).
875-191 | 875 | KL-IS | Phosphoric acid; & Oxirane, methyl-, polymer with oxirane, monobutyl ether, compound with iodine.
954-13 | 954 | Spacide | 2-Benzyl-4-chlorophenol; & o-Phenylphenol (NO INERT USE).
1020-4 | 1020 | Oakite Chlor-Tergent | Trichloro-s-triazinetrione.
1072-11 | 1072 | K.O. Dyne | Nonylphenoxypolyethoxyethanol—iodine complex.
1072-19 | 1072 | Babsyne-20 | Nonylphenoxypolyethoxyethanol—iodine complex.
1270-237 | 1270 | Zep Refresh II | Ethanol; 4-tert-Amylphenol; & o-Phenylphenol (NO INERT USE).
2296-101 | 2296 | Easy-Dab Bacteriostatic Creme Cleanser | o-Phenylphenol (NO INERT USE).
5813-84 | 5813 | Necktie | 1,3-Dichloro-5-ethyl-5-methylhydantoin; 1,3-Dichloro-5,5-dimethylhydantoin; & 2,4-Imidazolidinedione, 1-bromo-3-chloro-5,5-dimethyl-.
7969-148 | 7969 | BAS 661 00 H | Dicamba; & Dimethenamid.
10324-25 | 10324 | Maquat DS 1412-10% | Alkyl* dimethyl benzyl ammonium chloride *(50%C14, 40%C12, 10%C16).
10324-74 | 10324 | Aqua Foaming Bowl & Bathroom Cleaner | Alkyl* dimethyl benzyl ammonium chloride *(50%C14, 40%C12, 10%C16).
10324-95 | 10324 | Ma-Brom | Sodium bromide.
10324-123 | 10324 | Econo-Lemon 10 Scented | Alkyl* dimethyl benzyl ammonium chloride *(58%C14, 28%C16, 14%C12).
10324-137 | 10324 | Maquat FL-1 | Alkyl* dimethyl benzyl ammonium chloride *(58%C14, 28%C16, 14%C12).
10324-138 | 10324 | Maquat FL-2 | Alkyl* dimethyl benzyl ammonium chloride *(58%C14, 28%C16, 14%C12).
10324-169 | 10324 | Maquat 615-MR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-174 | 10324 | Maquat 86-MR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-184 | 10324 | Maquat 86-HMR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-197 | 10324 | Maguard QSX-500 | 1-Octadecanaminium,N,N-dimethyl-N-[3-(trihydroxysilyl)propyl],chloride.
10324-199 | 10324 | Maquat MC1412-50%FC | Alkyl* dimethyl benzyl ammonium chloride *(50%C14, 40%C12, 10%C16).
10324-200 | 10324 | Maquat MC1412-20%FC | Alkyl* dimethyl benzyl ammonium chloride *(50%C14, 40%C12, 10%C16).
10324-203 | 10324 | Maquat MC1412-40%FC | Alkyl* dimethyl benzyl ammonium chloride *(50%C14, 40%C12, 10%C16).
10324-217 | 10324 | STIX | Alkyl* dimethyl benzyl ammonium chloride *(50%C14, 40%C12, 10%C16); & Phosphoric acid.
10324-218 | 10324 | Kling | Hydrochloric acid; 1-Decanaminium, N,N-dimethyl-N-octyl-, chloride; Alkyl* dimethyl benzyl ammonium chloride *(50%C14, 40%C12, 10%C16); 1-Octanaminium, N,N-dimethyl-N-octyl-, chloride; & 1-Decanaminium, N-decyl-N,N-dimethyl-, chloride.
10807-438 | 10807 | Purge Air Sanitizer | Dipropylene glycol; Alkyl* dimethyl benzyl ammonium chloride *(50%C14, 40%C12, 10%C16); & Triethylene glycol.
33176-24 | 33176 | Arysol Brand Surface Disinfectant Spray | Ethanol; Alkyl* dimethyl benzyl ammonium chloride *(60%C14, 30%C16, 5%C18, 5%C12); & Alkyl* dimethyl ethylbenzyl ammonium chloride *(68%C12, 32%C14).
39967-81 | 39967 | Hospital Broad Brand | 2-Benzyl-4-chlorophenol; 4-tert-Amylphenol; & o-Phenylphenol (NO INERT USE).
39967-83 | 39967 | Ocide Hospital Cleaner-Disinfectant | 2-Benzyl-4-chlorophenol; 4-tert-Amylphenol; & o-Phenylphenol (NO INERT USE).
39967-88 | 39967 | Phenocide 256 | 2-Benzyl-4-chlorophenol; & o-Phenylphenol (NO INERT USE).
39967-89 | 39967 | Phenocide 128 | 2-Benzyl-4-chlorophenol; & o-Phenylphenol (NO INERT USE).
47000-19 | 47000 | Dy-Fly I Livestock Spray | MGK 264; Pyrethrins; & Piperonyl butoxide.
47000-101 | 47000 | CT-42 Lice Spray | Pyrethrins; & Piperonyl butoxide.
48222-7 | 48222 | Agro-K Copper Lite | Copper sulfate pentahydrate.
49547-5 | 49547 | Alen Pine Oil 60 | Pine oil.
51873-8 | 51873 | De-Cut | Maleic hydrazide, potassium salt.
57538-29 | 57538 | Fortified Stimulate Yield Enhancer | Indole-3-acetic acid; Indole-3-butyric acid; Gibberellic acid; & Cytokinin (as kinetin).
57538-36 | 57538 | Stimulate Fruit Thinner | Gibberellic acid; & Cytokinin (as kinetin).
57538-37 | 57538 | Stimulate Grain Filler | Indole-3-butyric acid; Gibberellic acid; & Cytokinin (as kinetin).
57538-38 | 57538 | Stimulate Power | Cytokinin (as kinetin); & Gibberellic acid.
57538-44 | 57538 | Stimulate Flower Fertility | Indole-3-acetic acid; Indole-3-butyric acid; Gibberellic acid; & Cytokinin (as kinetin).
57538-45 | 57538 | Stimulate Bud Former | Cytokinin (as kinetin); & Gibberellic acid.
57538-46 | 57538 | Stimulate Seed Germ | Indole-3-acetic acid; Indole-3-butyric acid; Gibberellic acid; & Cytokinin (as kinetin).
57538-47 | 57538 | Stimulate Fruit Sizer | Indole-3-butyric acid; Indole-3-acetic acid; Gibberellic acid; & Cytokinin (as kinetin).
57538-48 | 57538 | Stimulate Root Growth | Gibberellic acid; Indole-3-butyric acid; & Cytokinin (as kinetin).
59106-3 | 59106 | BioClear 550 Fizzy Tabs | 2,2-Dibromo-3-nitrilopropionamide; & 1-Bromo-1-(bromomethyl)-1,3-propanedicarbonitrile.
70385-1 | 70385 | Microban Disinfectant Spray | Bromine; o-Phenylphenol (NO INERT USE); & Benzenemethanaminium, N,N-dimethyl-N-(2-(2-(4-(1,1,3,3-tetramethylbutyl)phenoxy)ethoxy)ethyl)-, chloride.
72138-1 | 72138 | Real Pine Cleaner Disinfectant Deodorizer | Pine oil.
87538-3 | 87538 | Monofoil Screen/Glass Protectant | 1-Octadecanaminium,N,N-dimethyl-N-[3-(trihydroxysilyl)propyl],chloride.
CA-060027 | 100 | Gramoxone Inteon | Paraquat dichloride.
CO-120003 | 12455 | Contrac All-Weather Blox | Bromadiolone.
OR-070024 | 400 | Enhance | Captan; & Carboxin.
OR-080022 | 91411 | DuPont Mankocide Fungicide | Mancozeb; & Copper hydroxide.
OR-080032 | 400 | Dimilin 2L | Diflubenzuron.
OR-110003 | 264 | Osprey Herbicide | Mesosulfuron-methyl.
OR-110012 | 400 | Vitavax Flowable Fungicide | Carboxin.
OR-120008 | 100 | Switch 62.5WG | Fludioxonil; & Cyprodinil.
WA-000033 | 19713 | IDA, Inc. Diuron 80W | Diuron.
WA-000034 | 19713 | Drexel Diuron 4L Herbicide | Diuron.
WA-030012 | 66222 | Galigan 2E | Oxyfluorfen.
WA-030024 | 66222 | Thionex 3 EC Insecticide | Endosulfan.
WA-030027 | 66222 | Thionex 3 EC Insecticide | Endosulfan.
WA-050010 | 19713 | Drexel Atrazine 90 DF Herbicide | Atrazine.
WA-110005 | 61842 | Lorox DF | Linuron.

Table 2—Product Registration Amendments to Terminate Uses
Registration No. | Company No. | Product name | Active ingredient | Uses to be terminated
100-780 | 100 | Tilt 45W | Propiconazole | Pre-Harvest uses and associated pre-harvest label language on Tilt 45W for the following crops: Celery, cereals (wheat, barley, rye, triticale and oats), citrus, grasses grown for seed, peanuts, pecans, pineapple, rice, wild rice, stone fruit and sugarcane without prejudice.
264-645 | 264 | Glufosinate-Ammonium Manufacturing-Use Product | Glufosinate | Rice.
264-646 | 264 | Glufosinate-Ammonium Technical | Glufosinate | Rice.
264-660 | 264 | Liberty Herbicide | Glufosinate | Rice.
264-829 | 264 | Liberty 280 SL Herbicide | Glufosinate | Rice.
432-1525 | 432 | Sevin Brand Carbaryl Technical | Carbaryl | Oyster beds & Pet (Collars only).
1021-2801 | 1021 | MGK Formula 74611 | Pyrethrins | Residential Indoor, Residential Outdoor & Indoor Non-food/Food Handling Establishments.
1839-63 | 1839 | BTC 1010 | 1-Decanaminium, N-decyl-N,N-dimethyl-, chloride | Golf/commercial turf/lawns, golf courses.
1839-77 | 1839 | BTC 818 | 1-Octanaminium, N,N-dimethyl-N-octyl-, chloride; 1-Decanaminium, N-decyl-N,N-dimethyl-, chloride; & 1-Decanaminium, N,N-dimethyl-N-octyl-, chloride | Golf courses.
1839-119 | 1839 | BTC 818-80% | 1-Decanaminium, N,N-dimethyl-N-octyl-, chloride; 1-Octanaminium, N,N-dimethyl-N-octyl-, chloride; & 1-Decanaminium, N-decyl-N,N-dimethyl-, chloride | Golf courses.
1839-135 | 1839 | BTC 1010-80% | 1-Decanaminium, N-decyl-N,N-dimethyl-, chloride | Golf/commercial turf/lawns, golf courses.
19713-75 | 19713 | Drexel Carbaryl Technical | Carbaryl | Oyster Beds & Pet Collars.
61842-20 | 61842 | Layby Pro Herbicide | Diuron; & Linuron | Sweet Corn.
61842-21 | 61842 | Linex 4L Herbicide | Linuron | Sweet Corn.
61842-22 | 61842 | Linuron Technical | Linuron | Sweet Corn.
61842-23 | 61842 | Lorox DF | Linuron | Sweet Corn.
61842-24 | 61842 | Linuron Flake Technical | Linuron | Sweet Corn.
61842-32 | 61842 | Linuron Technical | Linuron | Sweet Corn.
61842-35 | 61842 | Sevin Brand Technical Carbaryl Insecticide | Carbaryl | Oyster beds & Pet (Collars only).
61842-36 | 61842 | Carbaryl 97.5% Manufacturing Use Concentrate Insecticide | Carbaryl | Oyster beds & Pet (Collars only).
73049-427 | 73049 | Foray 48B | Bacillus thuringiensis Subsp. Kurstaki, Strain ABTS-351 | Nongrass Animal Feeds, Pome Fruits, Stone Fruits, Tree Nuts, Citrus Fruits, Small Fruits and Berries, Grape, Banana, Tropical Fruits, Kiwi, Pineapple, Melon, Root and Tuber Vegetables, Leaves of Root and Tuber Vegetables, Bulb Vegetables, Leafy Vegetables, Legume Vegetables, Foliage of Legume Vegetables, Fruiting Vegetables, Brassica (Cole) Leafy Vegetables, Cucurbit Vegetables, Artichoke, Asparagus, Malanga, Watercress, Corn, Herbs and Spices, Mint, Avocado, Rice, Cotton, Canola/Rapeseed, Hops, Jojoba, Peanut, Persimmon, Pomegranate, Safflower, Sorghum, Soybean, Sunflower, Small Grains & Tobacco.
89816-2 | 89816 | Mebrom 100 | Methyl bromide (NO INERT USE) | Caneberries, (Raspberries, Blackberries, Boysenberries), Golf Course Tees, Greens and Fairways, Athletic Fields, Tobacco Seedling Trays, Orchard Replant, Ornamentals and Forest Seedlings.
90736-2 | 90736 | Tebuconazole Tech | Tebuconazole | Seed Treatment uses on Barley, Corn, Oats & Wheat.

Table 3 of this unit includes the names and addresses of record for all registrants of the products in Tables 1 and 2 of this unit, in sequence by EPA company number. This number corresponds to the first part of the EPA registration numbers of the products listed in Table 1 and Table 2 of this unit.

Table 3—Registrants of Cancelled and Amended Products
EPA company No. | Company name and address
100 | Syngenta Crop Protection, LLC, 410 Swing Road, P.O. Box 18300, Greensboro, NC 27419-8300.
241 | BASF Corporation, 26 Davis Drive, P.O. Box 13528, Research Triangle Park, NC 27709-3528.
264 | Bayer CropScience, LP, 2 T.W. Alexander Drive, P.O. Box 12014, Research Triangle Park, NC 27709.
279 | FMC Corporation, 2929 Walnut Street, Philadelphia, PA 19104.
303 | Huntington Professional Products, A Service of Ecolab, Inc., 1 Ecolab Place, St. Paul, MN 55102.
400 | Macdermid Agricultural Solutions, Inc., c/o Arysta LifeScience North America, LLC, 15401 Weston Parkway, Suite 150, Cary, NC 27513.
432 | Bayer Environmental Science, A Division of Bayer CropScience LP, 2 T.W. Alexander Drive, Research Triangle Park, NC 27709.
464 | The Dow Chemical Co., 1501 Larkin Center Drive, 200 Larkin Center, Midland, MI 48674.
498 | Chase Products Co., P.O. Box 70, Maywood, IL 60153.
706 | Claire Manufacturing Company, Agent Name: Regwest Company, LLC, 8203 West 20th Street, Suite A, Greeley, CO 80634-4696.
875 | Diversey, Inc., 1410 Newman Road, Racine, WI 53406.
954 | King Research, Inc., Agent Name: Lewis & Harrison, LLC, 122 C Street NW., Suite 505, Washington, DC 20001.
1020 | Chemetall US, Inc., 675 Central Avenue, New Providence, NJ 07974-0007.
1021 | McLaughlin Gormley King Company, 8810 Tenth Ave., North, Minneapolis, MN 55427-4319.
1072 | Gea Farm Technologies, Inc., Agent Name: Regwest Company, LLC, 8203 West 20th Street, Suite A, Greeley, CO 80634-4696.
1270 | Zep, Inc., c/o Compliance Services, 1259 Seaboard Industrial Blvd. NW., Atlanta, GA 30318.
1839 | Stepan Company, 22 W. Frontage Rd., Northfield, IL 60093.
2296 | National Chemical Laboratories, Inc., 401 N. 10th Street, Philadelphia, PA 19123.
5813 | The Clorox Co., P.O. Box 493, Pleasanton, CA 94566-0803.
7969 | BASF Corporation, 26 Davis Drive, P.O. Box 13528, Research Triangle Park, NC 27709-3528.
10324 | Mason Chemical Company, 723 W. Algonquin Rd., Suite B, Arlington Heights, IL 60005.
10807 | Amrep, Inc., Agent Name: Zep, Inc., c/o Compliance Services, 1259 Seaboard Industrial Blvd. NW., Atlanta, GA 30318.
12455 | Bell Laboratories, Inc., 3699 Kinsman Blvd., Madison, WI 53704.
19713 | Drexel Chemical Company, P.O. Box 13327, Memphis, TN 38113-0327.
33176 | Amrep, Inc., Agent Name: Zep, Inc., c/o Compliance Services, 1259 Seaboard Industrial Blvd. NW., Atlanta, GA 30318.
39967 | Lanxess Corporation, 111 RIDC Park West Drive, Pittsburgh, PA 15275-1112.
47000 | Chem-Tech, Ltd., 110 Hopkins Drive, Randolph, WI 53956.
48222 | Agro-K Corporation, Agent Name: Spring Trading Company, 203 Dogwood Trail, Magnolia, TX 77354.
49547 | Alen Del Norte, Agent Name: Delta Analytical Corp., 12510 Prosperity Drive, Suite 160, Silver Spring, MD 20904.
51873 | Fair Products, Inc., P.O. Box 386, Cary, NC 27512.
57538 | Stoller Enterprises, Inc., Agent Name: Spring Trading Company, 203 Dogwood Trail, Magnolia, TX 77354.
59106 | The Lubrizol Corporation, 29400 Lakeland Blvd., Wickliffe, OH 44092-2298.
61842 | Tessenderlo Kerley, Inc., Agent Name: Pyxis Regulatory Consulting, Inc., 4110 136th Street Ct NW., Gig Harbor, WA 98332.
66222 | Makhteshim Agan of North America, Inc., D/B/A Adama, 3120 Highwoods Blvd., Suite 100, Raleigh, NC 27604.
70385 | Prorestore Products, Agent Name: Lewis & Harrison, LLC, 122 C Street NW., Suite 505, Washington, DC 20001.
72138 | White Cap, Inc., Agent Name: Delta Analytical Corp., 12510 Prosperity Drive, Suite 160, Silver Spring, MD 20904.
73049 | Valent Biosciences Corporation, 870 Technology Way, Libertyville, IL 60048-6316.
87538 | Coeus Technology, Inc., 5540 West 53rd Street Parkway, Anderson, IN 46013.
89816 | Mebrom Corp., Agent Name: PRA Registrations, LLC, 8595 Collier Blvd., Suite 107-51, Naples, FL 34114.
90736 | Jiangsu Fengdeng Crop Science Co., Ltd., Agent Name: Pyxis Regulatory Consulting, Inc., 4110 136th St., CT NW., Gig Harbor, WA 98332.
91411 | Kocide, LLC, Agent Name: Wagner Regulatory Associates, Inc., P.O. Box 640, Hockessin, DE 19707.

III. Summary of Public Comments Received and Agency Response to Comments

During the public comment period provided, EPA received two comments in response to the April 10, 2017 Federal Register notice announcing the Agency's receipt of the requests for voluntary cancellations and amendments to terminate uses of products listed in Table 1 and Table 2 of Unit II. One comment was received from Stepan Company requesting that EPA Reg. No. 1839-189 be retained and a second comment was received from Mason Chemical Company requesting that EPA Reg. No. 10324-89 be retained.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is August 29, 2017. Any distribution, sale, or use of existing stocks of the products identified in Tables 1 and 2 of Unit II in a manner inconsistent with any of the provisions for disposition of existing stocks set forth in Unit VI will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of April 10, 2017. The comment period closed on May 10, 2017.

VI. Provisions for Disposition of Existing Stocks

Existing stocks are those stocks of registered pesticide products which are currently in the United States and which were packaged, labeled, and released for shipment prior to the effective date of the action. The existing stocks provision for the products subject to this order is as follows.

A. For Products 706-69 (sell through date of September 27, 2018), 10324-169, 10324-174, 10324-184, 10324-197, 10324-218, 10807-438 and 33176-24

The registrants have requested to the Agency via letter to sell existing stocks for an 18-month period for products 706-69 (sell through date of September 27, 2018), 10324-169, 10324-174, 10324-184, 10324-197, 10324-218, 10807-438 and 33176-24.

B. For All Other Products Identified in Table 1

For the other voluntary product cancellations listed in Table 1 of Unit II, the registrants may continue to sell and distribute existing stocks of the products listed in Table 1 until August 29, 2018, which is 1 year after publication of this cancellation order in the Federal Register. Thereafter, the registrants are prohibited from selling or distributing the products listed in Table 1 of Unit II., except for export in accordance with FIFRA section 17 (7 U.S.C. 136o) or for proper disposal.

C. For All Products Identified in Table 2

Now that EPA has approved product labels reflecting the requested amendments to terminate uses for the products listed in Table 2 of Unit II, registrants are permitted to sell or distribute the products listed in Table 2, under the previously approved labeling until February 28, 2019, a period of 18 months after publication of this cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and products whose labels include the terminated uses.

Authority: 7 U.S.C. 136 et seq.

Dated: June 28, 2017.
Delores Barber,
Director, Information Technology and Resources Management Division, Office of Pesticide Programs.

[FR Doc. 2017-17619 Filed 8-28-17; 8:45 am]

BILLING CODE 6560-50-P